Proclamation 9238 of February 27, 2015

Women's History Month, 2015

By the President of the United States of America

A Proclamation

Throughout history, extraordinary women have fought tirelessly to broaden our democracy's reach and help perfect our Union. Through protest and activism, generations of women have appealed to the values at the heart of our Nation and fought to give meaning to the idea that we are all created equal. As today's women and girls reach for new heights, they stand on the shoulders of all those who have come before and carry forward their legacy of proud achievement. This month, we celebrate countless pioneering women and the victories they won, and we continue our work to build a society where our daughters have the same possibilities as our sons.

Courageous women have called not only for the absence of oppression, but for the presence of opportunity. They have demonstrated for justice, but also for jobs—ones that promise equal pay for equal work. And they have marched for the right to vote not just so their voices would be heard, but so they could have a seat at the head of the table. With grit and resolve, they have fought to overcome discrimination and shatter glass ceilings, and after decades of slow, steady, and determined progress, they have widened the circle of opportunity for women and girls across our country.

Today, more women are their family's main breadwinner than ever before. Women are nearly half of our Nation's workers, and they are increasingly among the most skilled. At the same time, more than 60 percent of women with children under the age of 5 participate in the labor force. This increasing participation of women in our workforce has bolstered our economy and strengthened our families, and it has demonstrated that the policies that benefit women and working families benefit all of us.

But not all of the rules that govern our workplaces have caught up with this reality, and today, too many of the opportunities that our mothers and grandmothers fought for are going unrealized. That is why I am committed to tearing down the barriers to full and equal participation in our economy and society that still exist for too many women. All women deserve equal pay for equal work and a living wage; the Congress needs to raise the minimum wage and pass a law that ensures a woman is paid the same as a man for doing the same work. I continue to call for increased workplace flexibility and access to paid leave—including paid sick leave—so that hardworking Americans do not have to choose between being productive employees and responsible family members. And I have proposed a plan that would make quality child care available to every middle-class and low-income family in America with young children. These are not only women's issues—they are family issues and national economic priorities.

We know that when women succeed, America succeeds. The strength of our economy rests on whether we make it possible for every citizen to contribute to our growth and prosperity. As we honor the many patriots who have shaped not only the destinies of other women, but also the direction of our history, let us resolve to build on their efforts in our own time. As a Nation, we must join our voices with the chorus of history and push forward with unyielding faith to forge a more equal society for all our daughters and granddaughters—one where a woman's potential is limited only by the size of her dreams and the power of her imagination.

NOW, THEREFORE, I, BARACK OBAMA, President of the United States of America, by virtue of the authority vested in me by the Constitution and the laws of the United States, do hereby proclaim March 2015 as Women's History Month. I call upon all Americans to observe this month and to celebrate International Women's Day on March 8, 2015, with appropriate programs, ceremonies, and activities. I also invite all Americans to visit www.WomensHistoryMonth.gov to learn more about the generations of women who have left enduring imprints on our history.

IN WITNESS WHEREOF, I have hereunto set my hand this twenty-seventh day of February, in the year of our Lord two thousand fifteen, and of the Independence of the United States of America the two hundred and thirty-ninth.

[FR Doc. 2015-04516

Filed 3-3-15; 11:15 am]

Billing code 3295-F5